DEPARTMENT OF THE INTERIOR

Bureau of Land Management

[BLM_NV_FRN_MO#4500172218]

Notice of Public Meeting: Sierra Front-Northern Great Basin Resource Advisory Council

AGENCY: Bureau of Land Management, Department of Interior.

ACTION: Notice of public meeting.

SUMMARY: In accordance with the Federal Land Policy and Management Act and the Federal Advisory Committee Act of 1972, the U.S. Department of the Interior's Bureau of Land Management (BLM) Sierra Front-Northern Great Basin Resource Advisory Council (RAC) will meet as indicated below.

DATES: The Sierra Front-Northern Great Basin RAC will hold an in-person meeting with a virtual participation option on Thursday, September 21, 2023. The RAC will also host a field tour on Friday, September 22. The meeting will be held from 8 a.m. to 5 p.m. PDT and may end earlier or later depending on the needs of group members. The field tour will begin at 8 a.m. and conclude at approximately 1 p.m. PDT.

ADDRESSES: The meeting will be held at the BLM Winnemucca District Office, 5100 East Winnemucca Blvd., Winnemucca, Nevada 89445. Individuals that prefer to participate in the September 21 meeting virtually must register by visiting the RAC's web page at least one week in advance of the meeting at https://www.blm.gov/get-involved/resource-advisory-council/near-me/nevada. Individuals participating in the September 22 field tour will meet at 8 a.m. at the Winnemucca District Office (5100 East Winnemucca Blvd.) and travel to Orovada, Nevada.

Written comments can be mailed to: BLM Carson City District Office, Attn: Lisa Ross, RAC Coordinator; 5665 Morgan Mill Road, Carson City, NV 89701. Comments can also be submitted by email to lross@blm.gov with the subject line: BLM Sierra Front-Northern Great Basin RAC.

FOR FURTHER INFORMATION CONTACT: Lisa Ross, RAC Coordinator, by telephone at (775) 885-6107, or by email at lross@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The 15-member BLM Sierra Front-Northern Great Basin RAC serves in an advisory capacity concerning issues relating to land use planning and the management of the public land resources located within the BLM's Elko, Winnemucca, and Carson City Districts. Meetings are open to the public in their entirety and a public comment period will be held near the end of the meeting.

Agenda items for the September 21 meeting include district updates, a wild horse & burro update, Assessment Inventory & Monitoring Survey, proposed new lands bill/rules, and Inflation Reduction Act funding. The field tour will offer participants the opportunity to view a land conveyance for a new public school and the site of a new fire station. Included in the tour is an opportunity to see the new infrastructure of the Winnemucca Sand Dunes Recreation Area (which includes shade structures, interpretive signage, and vault toilets) located north of Winnemucca, NV. Another stop will be the land conveyance expansion for the Humboldt County Shooting Range Facility. The field tour will conclude at approximately 1 p.m. PDT. Members of the public are welcome on field tours but must provide their own transportation and meals.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

The final meeting agenda will be available two weeks in advance of the meeting on the RAC's web page at https://www.blm.gov/get-involved/resource-advisory-council/near-me/nevada.

Interested persons may make verbal presentations to the RAC during the meeting or file written statements. Such requests should be made to RAC Coordinator Lisa Ross prior to the public comment period. Depending on the number of people who wish to speak, the time for individual comments may be limited.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Gerald Dixon,
Designated Federal Officer, BLM Elko District Manager.

[FR Doc. 2023-17580 Filed 8-15-23; 8:45 am]

BILLING CODE 4331-21-P